DEPARTMENT OF THE INTERIOR

National Park Service

Notice of Intent To Prepare a General Management Plan/Environmental Impact Statement for Jefferson National Expansion Memorial, Missouri

AGENCY: National Park Service, DOI.

SUMMARY: Pursuant to Section 102(2)(C) of the National Environmental Policy Act of 1969, 42 U.S.C. 4332(2)(C), the National Park Service (NPS) is preparing a General Management Plan/Environmental Impact Statement (GMP/EIS) for Jefferson National Expansion Memorial (Memorial). The GMP/EIS will prescribe the resource conditions and visitor experiences that are to be achieved and maintained at the Memorial over the next 15 to 20 years.

To facilitate sound planning and environmental assessment, the NPS intends to gather information necessary for the preparation of the GMP/EIS and obtain suggestions and information from other Agencies and the public on the scope of issues to be addressed in the GMP/EIS. Comments and participation in this scoping process are invited. Participation in the planning process will be encouraged and facilitated by various means, including newsletters and public meetings. The NPS will conduct public scoping meetings to explain the planning process and to solicit opinion about issues to address in the GMP/EIS. Notification of all such meetings will be announced in the local press and in the NPS newsletters.

ADDRESSES: If you wish to comment on any issues associated with the GMP/EIS, you may submit your comments by any one of several methods. You may mail or hand-deliver comments to the Superintendent, Jefferson National Expansion Memorial, 11 North 4th Street, St. Louis, Missouri 63102. You also may provide comments electronically by entering them into the NPS's Planning, Environment, and Public Comment Web site http://parkplanning.nps.gov. Information will be available for public review and comment from the Office of the Superintendent at the above address.

Requests to be added to the project mailing list should be sent by mail to Superintendent, Jefferson National Expansion Memorial, 11 North 4th Street, St. Louis, Missouri 63102, by telephone 314-655-1700 or by electronic mail (e-mail) to JEFF_Superintendent@nps.gov.

Before including your address, telephone number, e-mail address, or other personal identifying information in your comments, you should be aware that your entire comments (including your personal identifying information) may be made publicly available at any time. While you can ask us in your comments to withhold your personal identifying information from public review, we cannot guarantee that we will be able to do so. We will make all submissions from organizations or businesses, from individuals identifying themselves as representatives or officials, or organizations or businesses, available for public inspection in their entirety.

FOR FURTHER INFORMATION CONTACT: Superintendent, Jefferson National Expansion Memorial, 11 North 4th Street, St. Louis, Missouri 63102, by telephone 314-655-1700.

SUPPLEMENTARY INFORMATION: The Memorial consists of the Gateway Arch and its surrounding grounds, the Museum of Westward Expansion, and St. Louis' Old Courthouse. During a nationwide competition in 1947-48, architect Eero Saarinen's inspired design for a 630-foot stainless steel arch was chosen as a perfect monument to the spirit of the western pioneers. The grounds were designed by landscape architect Dan Kiley, with significant input from Saarinen. With the collaboration of two great designers, the Arch and its grounds became merged, with one reflecting the other, achieving a landscape both modern and unique. In 1987, the Gateway Arch and its surrounding grounds were designated a National Historic Landmark.

The Museum of Westward Expansion, located below the Arch, contains an extensive collection of artifacts, mounted animal specimens, an authentic American Indian tipi, and an overview of the Lewis and Clark expedition.

Located just two blocks west of the Arch is the Old Courthouse, one of the oldest standing buildings in St. Louis, begun in 1839. It was here that the first two trials of the Dred Scott case were held in 1847 and 1850. Today, the building houses a museum charting the history of the city of St. Louis and restored courtrooms.

The GMP/EIS will prescribe the resource conditions and visitor experiences that are to be achieved and maintained in the Memorial over the next 15 to 20 years. The clarification of what must be achieved according to law and policy will be based on review of the unit's purpose, significance, special mandates, and the body of laws and policies directing park management. Based on determinations of desired conditions, the GMP/EIS will outline kinds of resource management activities, visitor activities, and appropriate future development. A range of reasonable management alternatives will be developed through this planning process and will include, at a minimum, a no-action alternative and a preferred alternative. To facilitate sound analysis of environmental impacts, the NPS is gathering information necessary for the preparation of an associated EIS.

The types of changes considered under the GMP/EIS process would include accessible walkways to the underground visitor center and museum, and to the grounds from the riverfront. The plan would also examine a pedestrian walkway over Memorial Drive and the Interstate Highway that would connect the Arch grounds to the grounds near the Old Courthouse. Such a walkway could allow visitors to move from downtown to the Arch more safely. Streetscape changes (plantings, pedestrian access changes) would be considered to make the environment surrounding the Memorial more inviting and visitor friendly. Minor modifications could be made to the interior of the Old Court House, and wayside exhibits added to the grounds to enhance the visitor experience and learning at the Memorial. Expansion of the existing museum space or modifications to other existing facilities would be considered to provide greater learning and interpretative services. Consideration would also be given to the addition of food service (temporary/seasonal/portable self-contained refreshment vendors), restrooms, modified security checkpoints, and other changes suggested in the past by the public.

Dated: May 8, 2008.
David N. Given,
Acting Regional Director, Midwest Region.

[FR Doc. E8-13187 Filed 6-11-08; 8:45 am]

BILLING CODE 4312-AW-P